DEPARTMENT OF HEALTH AND HUMAN SERVICES

National Institutes of Health

National Cancer Institute; Amended Notice of Meeting

Notice is hereby given of a change in the meeting of the Board of Scientific Counselors, National Cancer Institute, July 11, 2022, 11:00 a.m. to July 12, 2022, 3:30 p.m., National Cancer Institute Shady Grove, 9609 Medical Center Drive, Rockville, MD 20850 which was published in the Federal Register on June 6, 2022, FR Doc 2022-12046, 87 FR 34280.

This notice is being amended to change the meeting end time on July 12, 2022, from 3:30 p.m. to 4:15 p.m. The meeting will now be held on July 11, 2022, from 11:00 a.m. to 2:40 p.m. and July 12, 2022, from 11:00 a.m. to 4:15 p.m. The meeting will be held as a virtual meeting and is partially closed to the public.

Dated: June 9, 2022.
Melanie J. Pantoja,
Program Analyst, Office of Federal Advisory Committee Policy.

[FR Doc. 2022-12834 Filed 6-14-22; 8:45 am]

BILLING CODE 4140-01-P